DEPARTMENT OF THE INTERIOR

Bureau of Land Management

[AZ-420-05-1640-BH; 8364]

Closure of Selected Public Lands in Pima County, AZ

AGENCY: Bureau of Land Management, Interior.

ACTION: Notice.

SUMMARY: This order restricts all public use on a year-round basis on 20 acres of public lands in the Saginaw Hill area administered by the Bureau of Land Management (BLM), Tucson Field Office, Arizona. Existing management designations established in the Phoenix Resource Management Plan and Final Environmental Impact Statement, dated September 1989, remain unchanged. This order is issued under the authority of 43 CFR 8364.1 and affects the following public lands:

Gila and Salt River Meridian, Arizona

T. 15 S., R. 12 E.,

Sec. 11, SE¼NE¼NE¼, SE¼SE¼NE¼.

The areas described contain 20 acres.

DATES: The use restriction shall be effective immediately on April 11, 2005, and shall remain in effect until rescinded or modified by the Authorized Officer.

FOR FURTHER INFORMATION CONTACT: Acting Field Manager at the Tucson Field Office, 12661 East Broadway Boulevard, Tucson, Arizona 85748-7208; telephone (520) 258-7200.

SUPPLEMENTARY INFORMATION: Current regulations and management designations allow public use of BLM-administered ands in the Saginaw Hill area. The affected lands contain physical conditions and substances that compromise public health and safety, including open vertical mine shafts as well as waste piles containing hazardous levels of both arsenic and lead. Public use in the affected areas occurs for a variety of recreational activities, exposing visitors to the physical hazards and hazardous substances associated with potentially harmful effects. Public health and safety hazards will continue in these areas unless immediate management action is taken. The restriction prohibiting public entry and use within the affected areas will help mitigate public health and safety threats.

The Saginaw Hill area described herein will be subject to the following use restrictions:

1. Unless otherwise authorized, no person shall enter or remain in the restricted area.

2. Persons who are exempt from the restriction include:

(a) Any Federal, State, or local officers engaged in fire, emergency or law enforcement activities;

(b) BLM employees engaged in official duties; and

(c) Persons specifically authorized by the BLM to enter the restricted area.

The area affected by this order will be posted with appropriate regulatory signs and/or physical barriers. Additional information is available in the Tucson Field Office at the address given below.

Penalties: On all public lands, under section 303(a) of the Federal Land Policy and Management Act of 1976, 43 U.S.C. 1733(a), 43 CFR 8360.0-7 and 43 CFR 9212.4, any person who violates any of these supplementary rules, closures or restrictions on public lands within the boundaries established in the rules may be tried before a United States Magistrate and fined no more than $1,000.00 or imprisoned for no more than 12 months, or both. Such violations may also be subject to the enhanced fines provided for by 18 U.S.C. 3571 (not to exceed $100,000 and/or imprisonment not to exceed 12 months).

Dated: March 18, 2005.
Steven Cohn,
Acting Field Manager.

[FR Doc. 05-7117 Filed 4-8-05; 8:45 am]

BILLING CODE 4310-32-P